DEPARTMENT OF THE INTERIOR

Bureau of Land Management

DEPARTMENT OF AGRICULTURE

Forest Service

[LLCOS010000-L16100000-DP0000]

Notice of Availability of the Supplement to the Draft Environmental Impact Statement for the Draft San Juan Land Management Plan, Colorado

AGENCY: Bureau of Land Management, Interior, Forest Service, Agriculture.

ACTION: Notice of availability.

SUMMARY: In accordance with the National Environmental Policy Act of 1969, as amended, the Forest and Rangeland Renewable Resources Planning Act of 1974, as amended by the National Forest Management Act of 1976, and the Federal Land Policy and Management Act of 1976, as amended, the Bureau of Land Management (BLM) and the U.S. Forest Service (USFS) have prepared a Supplement to the Draft Environmental Impact Statement (EIS) and the Draft Land Management Plan (LMP) for the San Juan Public Lands that was published on December 14, 2007, and by this notice, are announcing the opening of the comment period. The San Juan Public Lands Center (SJPLC) is the joint USFS/BLM Service First Office responsible for the management of BLM and USFS lands covered in the Draft LMP.

DATES: To ensure that comments will be considered, the SJPLC must receive written comments on the Supplement to the Draft LMP/EIS by November 25, 2011. The SJPLC will announce future meetings or hearings and any other public participation activities at least 15 days in advance through public notices, media releases, and/or mailings.

ADDRESSES: You may submit comments related to the Supplement to the San Juan Draft EIS and LMP by any of the following methods:

• E-mail: comments-planrevision-sanjuan@fs.fed.us.

• Fax: (970) 375-2331.

• Mail: San Juan Plan Revision, 15 Burnett Court, Durango, Colorado 81301.

Copies of the Supplement to the San Juan Draft EIS and LMP are available in the SJPLC at the above address; copies are also available at the following offices during regular business hours:

• Columbine Field Office, 367 Pearl St., Bayfield, CO 81122.

• Dolores Public Lands Office, 29211 Hwy. 184, Dolores, CO 81323.

• Pagosa Springs Field Office, 180 Pagosa Street, Pagosa Springs, CO 81147.

• BLM Colorado State Office, 2850 Youngfield Street, Lakewood, CO 80215.

• USDA Forest Service, Rocky Mountain Region, 740 Simms St, Golden, CO 80401.

• Libraries in Cortez, CO; Durango, CO; Pagosa Springs, CO; Colorado State University, Ft. Collins, CO; University of Colorado, Boulder, CO; and Ft. Lewis College, Durango, CO.

An electronic version can be viewed and downloaded at the project Web site: http://ocs.fortlewis.edu/forestPlan.

FOR FURTHER INFORMATION CONTACT: For further information contact Shannon Manfredi, Planning Team Lead, telephone (970) 385-1229; address San Juan Public Land Center, 15 Burnett Court, Durango, Colorado 81301; e-mail smanfredi@fs.fed.us. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The planning area is located in southwest Colorado in Archuleta, Conejos, Dolores, Hinsdale, La Plata, Mineral, Montezuma, Montrose, Rio Grande, San Juan and San Miguel counties.

The Supplement to the Draft EIS was prepared to include the development potential of a shale gas play area found within the western portion of the planning area. Information about the Gothic Shale Gas Play (GSGP) area became available during the comment period on the Draft EIS and Draft LMP (between December 14, 2007, and April 2008).

The GSGP is a 646,403-acre area within Paradox Basin in Montezuma, Dolores and San Miguel Counties. The play area includes a mix of private, state, and public lands, with Federal mineral estate encompassing 57 percent of the area. Comments indicated that the shale gas formation warranted inclusion in the Draft EIS given the technological advances in directional drilling and hydraulic fracturing that made shale gas extraction more viable, economically feasible and successful in other parts of the country.

The Reasonable Foreseeable Development (RFD) scenario for oil and gas on the San Juan National Forest and BLM public lands covered by the Draft LMP was revised to include the GSGP development scenario (including trends, timelines, well numbers, infrastructure, and surface disturbance). According to the RFD, approximately 1,200 wells could be developed on Federal mineral estate lands over the next 15 years.

The supplement analyzes the consequences of the new development projections for oil and gas leasing and discloses the results of a recently completed air-quality model, as requested by the Environmental Protection Agency. The supplement does not address other issues or attempt to address comments received on the Draft LMP/Draft EIS. The supplement does not change the range of alternatives, nor add or remove any alternatives—it only adds information regarding the GSGP area and air quality model results for public review and comment. The supplement only contains new information about oil and gas leasing, and the potential environmental consequences associated with it, including potential effects to air quality.

The BLM met with and consulted 10 Tribes on oil and gas development which concluded on September 2010. The BLM finds that further consultation is appropriate under Executive Order 13175 and will send the draft supplement to the 25 Tribes that the BLM regularly contacts about issues in this area. The BLM will schedule face-to-face consultation meetings to discuss the supplement at the Tribes' request. All public comments submitted during the original Draft LMP/Draft EIS comment period regarding other plan revision issues and resources are still valid. The comments received in 2008 and the comments received on this supplement will create the complete set of comments that will be considered in developing the Final EIS and Proposed LMP.

The supplement is intended to be used in conjunction with the Draft EIS and Draft LMP that was published on December 14, 2007. Those documents can be found on the plan revision Web site: http://ocs.fortlewis.edu/forestPlan. Compact disk copies, and a limited number of printed copies, are available by contacting Elysia Retzlaff, (970) 385-1253; emretzlaff@fs.fed.us.

Please note that public comments and information submitted including names, street addresses, and e-mail addresses of persons who submit comments will be available for public review and disclosure at the above address during regular business hours, Monday through Friday, except holidays.

Before including your address, phone number, e-mail address, or other personal identifying information in your comment, you should be aware that your entire comment—including your personal identifying information—may be made publicly available at any time. While you can ask us in your comment to withhold from public review your personal identifying information, we cannot guarantee that we will be able to do so.

Authority: 40 CFR 1502.9(c)(4) and 43 CFR 1610.2(e).

Helen M. Hankins,
Colorado State Director.
Mark Stiles,
Forest Supervisor.

[FR Doc. 2011-21716 Filed 8-25-11; 8:45 am]

BILLING CODE 4310-JB-P